FEDERAL MARITIME COMMISSION

46 CFR Parts 502 and 535

[Docket No. FMC-2024-0014]

Policy Statement on the Potential Use of an Investigatory Process To Support Determinations Regarding Filed Agreements That May Present Anticompetitive Features

AGENCY: Federal Maritime Commission.

ACTION: Notification of availability.

SUMMARY: The Federal Maritime Commission (Commission) is issuing this document to advise the public of the availability of a new policy statement. The policy statement describes the potential future use of the agency's administrative investigation process to enhance its determinations regarding agreements filed by ocean common carriers or marine terminal operators that may present anticompetitive features under the Shipping Act.

DATES: Policy statement On the Potential Use of an Investigatory Process to Support Determinations under 46 U.S.C. 41307(b) announced in this document was issued on July 30, 2024.

ADDRESSES: The policy statement can be found at the following link: https://www2.fmc.gov/readingroom/proceeding/24-25/.

FOR FURTHER INFORMATION CONTACT: David Eng, Secretary; Phone: (202) 523-5725; Email: Secretary@fmc.gov.

SUPPLEMENTARY INFORMATION: On July 30, 2024, the Commission issued a policy statement to provide guidance about the agency's potential future use of its administrative investigation process to enhance its determinations regarding agreements filed by ocean common carriers or marine terminal operators that may present anticompetitive features.

As the policy statement explains, such an administrative process can aid in the Commission's competition analysis and enable it to present a more comprehensive, well-supported determination in any later court proceeding seeking injunctive relief under 46 U.S.C. 41307(b). This process would occur under 46 U.S.C. 41302-04 and applicable FMC regulations.

The policy statement can be found at the following link: https://www2.fmc.gov/readingroom/proceeding/24-25/.

This document is issued under authority of 5 U.S.C. 552 and 46 U.S.C. 41302-04, 41307(b).

By the Commission.
David Eng,
Secretary.

[FR Doc. 2024-17201 Filed 8-7-24; 8:45 am]

BILLING CODE 6730-02-P